ENVIRONMENTAL PROTECTION AGENCY

[ER-FRL-8992-8]

Environmental Impacts Statements; Notice of Availability

Responsible Agency: Office of Federal Activities, General Information (202) 564-1399 or http://www.epa.gov/compliance/nepa/.

Weekly receipt of Environmental Impact Statements filed 09/13/2010 through 09/17/2010 pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100374, Draft EIS, USFWS, MT, Charles M. Russell National Wildlife Refuge and UL Bend National Wildlife Refuge Comprehensive Conservation Plan, To Provide Alternatives and Identify Consequences, Fergus, Petroleum, Garfield, McCore, Valley, and Phillips Counties, MT, Comment Period Ends: 11/16/2010, Contact: Laurie Shannon 303-236-4317.

EIS No. 20100375, Final EIS, USFWS, 00, Western Snowy Plover Habitat Conservation Plan, Proposed Issuance of an Incidental Take Permit, Oregon Parks and Recreation Department, Oregon Coast, OR, CA, WA, Wait Period Ends: 10/25/2010, Contact: Laura Todd 541-867-4558.

EIS No. 20100376, Draft EIS, USFS, CA, Concow Hazardous Fuels Reduction Project, Propose to Reduce Hazardous Forest Fuels, Plus Establish and Maintain Spaces—Defensible Fuel Profile Zones (DFPZs), Feather River Ranger District, Plumas National Forest, Towns of Paradise, Magalia, Concow, Butte County, CA, Comment Period Ends: 11/08/2010, Contact: Carol Spinos 530-532-8932.

EIS No. 20100377, Final EIS, USFS, CA, Tehachapi Renewable Transmission Project, New Information on Changed Conditions Caused by the Station Fire, Construct, Operate and Maintain New and Upgraded 500 kV and 220kV Transmission Lines and Substations, Special Use Authorization, Angeles National Forest, Los Angeles County, CA, Wait Period Ends: 10/25/2010, Contact: Justin Seastrand 626-574-5278.

EIS No. 20100378, Draft Supplement, USFS, OR, North Fork Burnt River Mining Project, To Provide Additional Information and to Address the Deficiencies Identified by the District Court of Oregon on August 4, 2006, Proposal for Mineral Plans of Operation, Implementation, Wallowa-Whitman National Forest, Unity Ranger District of the Whitman Unit, Blue Mountains, Town of Unity, Baker County, OR, Comment Period Ends: 11/08/2010, Contact: Sophia Miller 541-263-1735.

EIS No. 20100379, Draft EIS, TVA, KY, Tennessee Valley Authority (TVA) Integrated Resource Plan (IRP), To Address the Demand for Power in the TVA Service Area, KY, Comment Period Ends: 11/08/2010, Contact: Charles P. Nicholson 865-632-3582

EIS No. 20100380, Final EIS, USACE, 00, Sabine-Neches Waterway Channel Improvement Project, Proposed Ocean Dredged Material Disposal Site Designation, Southeast Texas and Southwest Louisiana, Wait Period Ends: 10/25/2010, Contact: Janelle Stokes 409-766-3039.

EIS No. 20100381, Draft Supplement, USAF, FL, Eglin Base Realignment and Closure, Proposed Beddown of the Joint Strike Fighter (JSF) and Establishment of an Initial Joint Training Site (IJTS), Implementation, Okaloosa, Walton, and Santa Rosa Counties, FL, Comment Period Ends: 11/08/2010, Contact: Mike Spaits 85-882-2836.

EIS No. 20100382, Final EIS, NPS, CA, Warner Valley Comprehensive Site Plan, Addressing Natural and Cultural Resource Conflicts, Parking and Circulation Improvements in Warner Valley, Implementation, Lassen Volcanic National Park, Plumas County, CA, Wait Period Ends: 10/25/2010, Contact: Louise Johnson 530-595-4444 Ext. 5170.

EIS No. 20100383, Draft Supplement, USFS, NM, Santa Fe National Forest Oil & Gas Leasing, Updated and New Information, Implementation, San Juan Basin, Cuba Ranger District, NM, Comment Period Ends: 11/08/2010, Contact: Jennifer Cramer 505-438-5449.

EIS No. 20100384, Final Supplement, USFS, AK, Programmatic EIS—Exxon Valdez Oil Spill Restoration Plan DOI/DOC, New Circumstances Bearing on the Council's Restoration Effort, Implementation, Prince William Sound, Gulf of Alaska, AK, Wait Period Ends: 10/25/2010, Contact: Laurel Jennings 206-526-4535.

EIS No. 20100385, Final EIS, NSA, MD, Fort George G. Meade, Maryland to Address Campus Development, Site M as an Operational Complex and to Construct and Operate Consolidated Facilities for Intelligence Community Use, Fort George G. Meade, MD, Wait Period Ends: 10/25/2010, Contact: Jeffrey D. Williams 301-688-2970.

Dated: September 21, 2010.
Robert W. Hargrove,
Director, NEPA Compliance Division, Office of Federal Activities.

[FR Doc. 2010-23974 Filed 9-23-10; 8:45 am]

BILLING CODE 6560-50-P